DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NMFS Implementation of International Trade Data System.

OMB Control Numbers: 0648-0732; 0648-0739; 0648-0776.

Form Number(s): None.

Type of Request: Regular; This is a revision of a currently approved collection.

Number of Respondents: 1800.

Average Hours per Response: 20 minutes.

Burden Hours: 103,717.

Needs and Uses: Pursuant to domestic statutory authorities and/or multilateral agreements, NMFS has implemented a number of trade monitoring programs to collect information from the seafood industry regarding the origin of certain fishery products. The purpose of these programs is to determine the admissibility of the products in accordance with the specific criteria of the trade measure or documentation requirements in effect for the species of fish that are being imported or exported.

The Security and Accountability for Every Port Act of 2006 (SAFE Port Act, Pub. L. 109-347) requires all Federal agencies with a role in import admissibility decisions to collect information electronically through the International Trade Data System (ITDS). U.S. Customs and Border Protection (CBP) developed the Automated Commercial Environment (ACE) as an internet-based system for the collection and dissemination of information for ITDS.

NMFS works with CBP to designate certain codes from the Harmonized Tariff Schedule of the United States as requiring additional information when an entry is electronically filed in ACE. That information (harvesting vessel, ocean area of catch, fishing gear, date and port of landing, etc.) is used by NMFS to determine that the fish products in the shipment were lawfully acquired, properly labeled and are admissible into U.S. commerce. Trade permits are issued by NMFS to importers and exporters of the designated fish species so that the import/export documentation requirements can be communicated to the trade community and to provide a point of contact when shipment documentation problems are encountered at the border.

Electronic reporting of trade data has been approved by OMB under three separate information collections: 0648-0732, 0648-0739 and 0648-0776. This information collection request proposes to merge the three collections under 0648-0732 and extend the approval for an additional three years.

Affected Public: Importers and exporters of seafood subject to catch documentation requirements.

Frequency: Annual trade permits; electronic reports upon import/export; provision of supply chain documents when selected for audit.

Respondent's Obligation: Affected importers and exporters must obtain an annual trade permit from NMFS. An electronic message set specific to NMFS must be filed electronically in ACE upon import/export of fish species subject to documentation requirements. When imports are selected for audit, the importer must furnish supply-chain records to NMFS for examination.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-17727 Filed 8-16-19; 8:45 am]

BILLING CODE 3510-22-P